DEPARTMENT OF THE INTERIOR

Bureau of Land Management

[CO-01-600-1310-241A]

Northwest Colorado Resource Advisory Council Meeting

AGENCY: Bureau of Land Management, Interior.

ACTION: Notice of Meeting.

SUMMARY: The next meeting of the Northwest Colorado Resource Advisory Council will be held on Thursday, November 16, 2000, at the Holiday Inn, Moffat Room in Craig, Colorado.

DATES: Thursday, November 16, 2000.

ADDRESSES: For further information, contact Lynn Barclay, Bureau of Land Management (BLM), 455 Emerson Street, Craig, Colorado 81625; Telephone (970) 826-5096.

SUPPLEMENTARY INFORMATION: The Northwest Resource Advisory Council (RAC) will meet on Thursday, November 16, 2000, at the Holiday Inn in the Moffat Room, Highway 13, Craig, Colorado. The meeting will start at 9 a.m. and includes discussion of reports from the Weed, Wildlife, Fire, and United States Forest Service Advisory committees. Information will be presented concerning joint training for the Colorado RAC's and the Communication Policy committee will present their proposal.

The meeting is open to the public. Interested persons may make oral statements at the meetings or submit written statements at the meeting. Per-person time limits for oral statements may be set to allow all interested persons an opportunity to speak.

Summary minutes of council meetings are maintained at the Bureau of Land Management Offices in Craig and Grand Junction, Colorado. They are available for public inspection and reproduction during regular business hours within thirty (30) days following the meeting.

Dated: October 24, 2000.
Richard Arcand,
Acting Center Manager, Northwest Center.

[FR Doc. 00-27754 Filed 10-27-00; 8:45 am]

BILLING CODE 4310-JB-P